DEPARTMENT OF THE INTERIOR

Bureau of Land Management

[(WY-060-1320-EL), WYW155132]

Notice of Availability of the Eagle Butte West Federal Coal Lease by Application Draft Environmental Impact Statement and Notice of Hearing, Wyoming

AGENCY: Bureau of Land Management, Interior.

ACTION: Notice of Availability (NOA) of Federal Coal Lease By Application (LBA) Draft Environmental Impact Statement (DEIS) and Public Hearing to Request Comments on the DEIS, Maximum Economic Recovery (MER), and Fair Market Value (FMV).

SUMMARY: In accordance with the National Environmental Policy Act and the implementing regulations, the Bureau of Land Management (BLM) is providing this NOA regarding the availability of the Eagle Butte West LBA DEIS and notice of a public hearing requesting comments on the DEIS, MER, and FMV pursuant to 43 Code of Federal Regulations (CFR) 3425.4. The DEIS analyzes the potential impacts for coal LBA WYW155132, referred to as the Eagle Butte West tract, in the decertified Powder River Federal Coal Production Region, Wyoming.

DATES: Written comments on the DEIS, MER, and FMR will be accepted for 60 days following the date that the Environmental Protection Agency publishes their NOA of the DEIS in the Federal Register. The public hearing will be held at 7 p.m. MST, on November 14, 2006, at the Clarion Hotel in Gillette, Wyoming.

ADDRESSES: Please address questions, comments, or concerns to the Casper Field Office, Bureau of Land Management, Attn: Nancy Doelger, 2987 Prospector Drive, Casper, Wyoming 82604, by facsimile (fax) to 307-261-7587, or send e-mail comments to the attention of Nancy Doelger at casper_wymail@blm.gov. Copies of the DEIS are available for public inspection at the following BLM office locations: BLM Wyoming State Office, 5353 Yellowstone Road, Cheyenne, Wyoming 82009; and BLM Casper Field Office, 2987 Prospector Lane, Casper, Wyoming 82604.

FOR FURTHER INFORMATION CONTACT: Nancy Doelger or Mike Karbs at the above address, or telephone: 307-261-7600.

SUPPLEMENTARY INFORMATION: The BLM is considering issuing a coal lease as a result of a December 28, 2001, application made by RAG Coal West, Inc. (RAG Coal) to lease the Federal coal in the Eagle Butte West Coal tract. This tract is near the Eagle Butte Mine and approximately 3 miles north of Gillette, Wyoming, in Campbell County, Wyoming. In August 2004 Foundation Coal West, Inc. (Foundation) purchased the Eagle Butte Mine from RAG Coal. The DEIS analyzes and discloses to the public direct, indirect, and cumulative environmental impacts of issuing a Federal coal lease in the Wyoming portion of the Powder River Basin. A copy of the DEIS has been sent to affected Federal, State, and local government agencies; persons and entities identified as potentially being affected by a decision to lease the Federal coal in this tract; and persons who indicated to the BLM that they wished to receive a copy of the DEIS. The purpose of the public hearing is to solicit comments on the DEIS, on the proposed competitive sale of Eagle Butte West Coal tract, and comments on the FMV and MER of the Federal coal.

RAG Coal originally applied for the tract to extend the life of the existing Eagle Butte Mine in accordance with 43 CFR part 3425. On October 16, 2003, Foundation, the new owner of RAG Coal, filed a request to modify the tract and estimated that the tract includes approximately 231 million tons of recoverable Federal coal underlying the following lands in Campbell County, Wyoming:

T. 51 N., R. 72 W., 6th P.M., Wyoming

Section 19: Lots 13, 14, 19, and 20;

Section 20: Lots 10 (S½), 11 (S½), and 12 through 15;

Section 29: Lot 1 W½ of lots, 2 through 7, W½ and SE¼ of lot 8, and lots 9 through 16;

Section 30: Lots 5, 6, 11 through 14, 19 and 20.

Total Acres: 1,397.64 acres more or less.

The Eagle Butte Mine is adjacent to the LBA and has an approved mining and reclamation plan from the Land Quality Division of the Wyoming Department of Environmental Quality (DEQ) and an approved air quality permit from the Air Quality Division of the Wyoming DEQ that allows them to mine up to 35 million tons of coal per year.

The Office of Surface Mining Reclamation and Enforcement, the Land Quality Division of the Wyoming DEQ, the Air Quality Division of the Wyoming DEQ, the Wyoming Department of Transportation, the Wyoming State Planning Office, and the Board of Commissioners of Campbell County, Wyoming are cooperating agencies in the preparation of the DEIS.

The DEIS analyzes leasing the Eagle Butte West Coal tract as the Proposed Action and it is the agency's Preferred Action. Under the Proposed Action, a competitive sale would be held and a lease issued for Federal coal in the tract as applied for by Foundation. As part of the coal leasing process, the BLM is evaluating adding Federal coal to the tract to avoid bypassing coal or to prompt competitive interest in the unleased Federal coal for this area. The alternate tract configuration that BLM is evaluating is described and analyzed as a separate alternative in the DEIS. Under this alternative, a competitive sale would be held and a lease issued for Federal coal lands included in a tract modified by the BLM. The DEIS also analyzes the alternative of rejecting the application to lease Federal coal as the No Action Alternative. The Proposed Action and Alternatives being considered in the DEIS are in conformance with the “Approved Resource Management Plan for Public Lands Administered by the Bureau of Land Management Buffalo Field Office” (April 2001).

Requests to be included on the mailing list for this project and to request copies of the DEIS or notification of the comment period or hearing date, or both, may be sent in writing, by facsimile, or electronically to the addresses previously stated at the beginning of this notice. The BLM asks that those submitting comments on the DEIS make them as specific as possible with reference to page numbers and chapters of the document. Comments that contain only opinions or preferences will not receive a formal response; however, they will be considered and included as part of the BLM decision-making process.

Comments, including names and street addresses of respondents, will be available for public review at the Casper Field Office, at the address listed above, during regular business hours (7:45 a.m. through 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: September 1, 2006.
Robert A. Bennett,
State Director.

[FR Doc. E6-17142 Filed 10-19-06; 8:45 am]

BILLING CODE 4310-22-P